DEPARTMENT OF COMMERCE

National Oceanic and Atmospheric Administration

50 CFR Part 660

[Docket No. 090428799-9802-01]

RIN 0648-BA05

Magnuson-Stevens Act Provisions; Fisheries off West Coast States; Pacific Coast Groundfish Fishery; Inseason Adjustments to Fishery Management Measures

AGENCY: National Marine Fisheries Service (NMFS), National Oceanic and Atmospheric Administration (NOAA), Commerce.

ACTION: Final rule; inseason adjustments to biennial groundfish management measures; request for comments.

SUMMARY: This final rule makes inseason adjustments to trawl fishery management measures for petrale sole taken with selective flatfish and multiple trawl gears in the U.S. exclusive economic zone (EEZ) off the coasts of Washington, Oregon, and California, North of 40° 10.00' N. lat. This action, which is authorized by the Pacific Coast Groundfish Fishery Management Plan (FMP), is intended to prevent exceeding the 2010 OY for petrale sole.

DATES: Effective at 0001 hours local time on July 16, 2010. Comments on this final rule must be received no later than 5 p.m., local time on August 16, 2010.

ADDRESSES: You may submit comments, identified by RIN 0648-BA05, by any one of the following methods:

• Electronic Submissions: Submit all electronic public comments via the Federal eRulemaking Portal: http://www.regulations.gov.

• Fax:206-526-6736, Attn: Gretchen Hanshew

• Mail: William W. Stelle, Jr., Regional Administrator, Northwest Region, NMFS, 7600 Sand Point Way NE., Seattle, WA 98115-0070, Attn: Gretchen Hanshew.

Instructions: No comments will be posted for public viewing until after the comment period has closed. All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

FOR FURTHER INFORMATION CONTACT: Gretchen Hanshew (Northwest Region, NMFS), 206-526-6147, fax: 206-526-6736, gretchen.hanshew@noaa.gov.

SUPPLEMENTARY INFORMATION:

Electronic Access

This final rule is accessible via the Internet at the Office of the Federal Register's Web site at http://www.gpoaccess.gov/fr/index.html. Background information and documents are available at the Pacific Fishery Management Council's (the Council or PFMC) Web site at http://www.pcouncil.org/.

Background

On December 31, 2008, NMFS published a proposed rule to implement the 2009-2010 specifications and management measures for the Pacific Coast groundfish fishery (73 FR 80516). The final rule to implement the 2009-2010 specifications and management measures for the Pacific Coast Groundfish Fishery was published on March 6, 2009 (74 FR 9874). This final rule was subsequently amended by inseason actions on April 27, 2009 (74 FR 19011), July 6, 2009 (74 FR 31874), October 28, 2009 (74 FR 55468), February 26, 2010 (75 FR 8820), May 4, 2010 (75 FR 23620), July 1, 2010 (75 FR 38030). Additional changes to the 2009-2010 specifications and management measures for petrale sole were made in two final rules: on November 4, 2009 (74 FR 57117), and December 10, 2009 (74 FR 65480). NMFS issued a final rule in response to a duly issued court order on July 8, 2010 (75 FR 39178). These specifications and management measures are at 50 CFR part 660, subpart G.

Limited Entry Non-whiting Trawl Fishery Management Measures

Changes to the groundfish management measures implemented by this action were recommended by the Council, in consultation with Pacific Coast Treaty Indian Tribes and the States of Washington, Oregon, and California, at its June 11-17, 2010, meeting in Foster City, CA. Among other actions, the Council recommended reducing the bi-monthly cumulative limits for petrale sole in the limited entry non-whiting trawl commercial fisheries to respond to updated fishery information and other inseason management needs. On July 1, 2010, NMFS published a rule (75 FR 38030) that reduced the bi-monthly trip limits for petrale sole coastwide, effective July 1, 2010. The reductions to trip limits are intended to slow catch of petrale sole and stay below the 2010 petrale sole OY, and are described in more detail in the preamble to the July 1, 2010 rule.

The July 1, 2010, rule mistakenly omitted reductions to the bi-monthly cumulative limits for petrale sole for vessels using selective flatfish trawl gears and multiple trawl gears North of 40 10.00' N. lat. This rule reduces the petrale sole bi-monthly trip limits for these gear types, as were recommended by the Council, to keep the projected catch of petrale sole below the 2010 petrale sole OY.

These reductions to petrale sole trip limits must be implemented as quickly as possible. Even a short delay in implementation could allow vessels to take the entire two-month limit for period 4 (July-August). These changes are intended to reduce the catch of petrale sole in order to keep the total mortality of petrale sole within its 2010 OY. The reduction to trip limits also slightly reduces the projected impacts to co-occurring overfished species.

Estimated mortality of overfished and target species are the result of management measures designed to meet the Pacific Coast Groundfish FMP objective of achieving, to the extent possible, but not exceeding, OYs of target species, while fostering the rebuilding of overfished stocks by remaining within their rebuilding OYs.

Based on the considerations outlined above, the Council recommended and NMFS is implementing the following changes to cumulative limits in the limited entry non-whiting trawl fishery North of 40° 10.00' N. lat.: reduce petrale sole cumulative limits caught with selective flatfish trawl gear and multiple trawl gears from “9,500 lb (4,309 kg) per 2 months” to “6,300 lb (2,858 kg) per 2 months” in July-December.

The lower bi-monthly cumulative limit for petrale sole taken with selective flatfish and multiple trawl gears is being implemented during a bi-monthly period (See the DATES section). Vessels fishing with selective flatfish or multiple trawl gears that have taken more than 6,300 lb of petrale sole since July 1, 2010, must have begun their landing by the effective date of this rule. Land or landing means “to begin transfer of fish, offloading fish, or to offload fish from any vessel. Once transfer of fish begins, all fish aboard the vessel are counted as part of the landing.” Vessels fishing with selective flatfish or multiple trawl gears that have not already taken at least 6,300 lb of petrale sole since July 1, 2010 may land no more than 6,300 lb of petrale sole (including the amount that has been taken prior to the effective date of this rule) during this two-month period (July-August).

Classification

This rule makes routine inseason adjustments to groundfish fishery management measures based on the best available information and is taken pursuant to the regulations implementing the Pacific Coast Groundfish FMP.

These actions are taken under the authority of 50 CFR 660.370(c) and are exempt from review under Executive Order 12866.

These inseason adjustments are taken under the authority of the Magnuson-Stevens Fishery Conservation and Management Act (Magnuson-Stevens Act), and are in accordance with 50 CFR part 660, the regulations implementing the FMP. These actions are based on the most recent data available. The aggregate data upon which these actions are based are available for public inspection at the Office of the Administrator, Northwest Region, NMFS, (see ADDRESSES) during business hours.

For the following reasons, NMFS finds good cause to waive prior public notice and comment on the revisions to groundfish management measures under 5 U.S.C. 553(b)(B) because notice and comment would be impracticable and contrary to the public interest. Also, for the same reasons, NMFS finds good cause to waive the 30-day delay in effectiveness pursuant to 5 U.S.C. 553(d)(3), so that this final rule may become effective as quickly as possible.

The recently available data upon which these recommendations were based was provided to the Council, and the Council made its recommendations, at its June 11-17, 2010, meeting in Foster City, CA. The Council recommended that these changes be implemented on or as close as possible to July 1, 2010. There was not sufficient time after that meeting to draft this document and undergo proposed and final rulemaking before these actions need to be in effect. For the actions to be implemented in this final rule, affording the time necessary for prior notice and opportunity for public comment would prevent the Agency from managing fisheries using the best available science to approach, without exceeding, the OYs for federally managed species in accordance with the FMP and applicable laws. The adjustments to management measures in this document affect commercial fisheries off Washington, Oregon, and California.

These decreases to bi-monthly cumulative limits for petrale sole in the limited entry trawl fishery must be implemented in a timely manner to prevent exceeding the 2010 petrale sole OY, and prevent premature closure of fisheries that impact petrale sole. These measures are intended to reduce impacts to petrale sole, a species for which a severely reduced OY was implemented for 2010 (74 FR 65480). These changes must be implemented in a timely manner, as quickly as possible. Bi-monthly cumulative limits cover a two-month period, so if implementation is delayed, then fishermen could harvest the prior higher limit before the revised lower limit is effective. Decreases to cumulative limits for other flatfish and Dover sole in the limited entry trawl fishery have already been implemented.

Delaying these changes would keep management measures in place that are not based on the best available data, which could lead to exceeding OYs or early closures of the fishery if harvest of groundfish exceeds levels projected for 2010. Such delay would impair achievement of the Pacific Coast Groundfish FMP objective of approaching, but not exceeding, OYs.

List of Subjects in 50 CFR Part 660

Fisheries, Fishing, Indian Fisheries.

Dated: July 13, 2010.
Carrie Selberg,
Acting Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq.

2. Table 3 (North) to part 660, subpart G, is revised to read as follows:

BILLING CODE 3510-22-S

[FR Doc. 2010-17435 Filed 7-15-10; 8:45 am]

BILLING CODE 3510-22-C